DEPARTMENT OF TRANSPORTATION

Bureau of Transportation Statistics

[Docket No. DOT-OST-2026-0893]

Agency Information Collection Activities; Renewal of a Previously Approved Information Collection: Freight Logistics Optimization Works (FLOW)

AGENCY: Bureau of Transportation Statistics (BTS), Department of Transportation (DOT).

ACTION: 60-Day notice and request for comments.

SUMMARY: In accordance with the Paperwork Reduction Act of 1995, BTS announces its plan to submit the Information Collection Request (ICR) described below to the Office of Management and Budget (OMB) for its review and approval and invites public comment. BTS is requesting approval to renew an existing ICR 2138-0049, Freight Logistics Optimization Works. The renewal of this ICR will enable BTS to continue collecting intermodal trade data in support of the FLOW program's aim to improve supply chain efficiencies.

DATES: Comments are encouraged and will be accepted until May 1, 2026.

ADDRESSES: To ensure that your comments are not entered more than once into the docket, submit comments by only one of the following methods:

• Federal eRulemaking Portal: Go to https://www.regulations.gov and follow the instructions for sending your comments electronically. Docket Number: [DOT-OST-2026-0893].

• Mail: Dockets Operations; U.S. Department of Transportation, 1200 New Jersey Avenue SE, West Building, 5th Floor, Room W58-213, Washington, DC 20590-0001.

• Hand Delivery: Deliver to mail address above between 9 a.m. and 5 p.m. EST, Monday through Friday, except Federal holidays.

Instructions: All submissions must include the Agency name and docket number. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to https://www.regulations.gov, as described in the system of records notice (DOT/ALL-14 FDMS), which can be reviewed at www.dot.gov/privacy.

FOR FURTHER INFORMATION CONTACT: Allison Fischman, Bureau of Transportation Statistics, Office of the Assistant Secretary for Research and Technology, USDOT, RTS-35, E36-302, 1200 New Jersey Avenue SE, Washington, DC 20590-0001, allison.fischman@dot.gov.

SUPPLEMENTARY INFORMATION:

Title: Freight Logistics Optimization Works (FLOW).

OMB Control Number: 2138-0049.

Type of Review: Renewal of information collection.

Respondents: Businesses in the freight industry.

Estimated Number of Respondents: 140.

Estimated Time per Response: 21 hours, which includes initial data file development and connection to data system as well as periodic updates.

Frequency: Annual.

Total Annual Burden Hours: 2,940.

Abstract: The Freight Logistics Optimization Works (FLOW) program is a government-industry information sharing initiative aimed at improving key freight information exchange between parts of the goods movement supply chain, equipping companies involved in freight with the evidence needed to avoid significant congestion events and support a more resilient freight network. Data collected and exchanged supports industry decision making associated with the daily management of cargo and assets. Companies participating in FLOW voluntarily submit relevant data; there is no regulatory requirement to submit such data.

An objective of the FLOW program is to provide the data infrastructure to facilitate the sharing of operational information between companies with key roles in the national logistics system, i.e., the complex collection of personnel, transportation assets, vessels, trucks, railcars, equipment, and any and all other freight components that comprise the United States' supply chain system. By providing a means to share this data securely, the FLOW program aims to enable a data driven approach to balance U.S. cargo traffic demand with system capacity.

Industry partners involved with FLOW, referred to as FLOW participants, include beneficial cargo owners, intermodal equipment providers, the logistics real estate sector, ports and marine terminal operators, motor carriers, ocean carriers, non-vessel operating common carriers, rail carriers, and third-party logistics providers. Participants contribute data on import and export containers and the availability of space and assets to move the containers, including purchase orders, cargo bookings, marine terminal space availability and gate transactions, truck dispatch capacity, chassis availability, and warehouse capacity. Participants share data based on their industry sector according to a standard data specification, available at https://www.transportation.gov/mission/office-secretary/office-policy/freight/flow/flow-data-dictionary. The process of sharing data is automated to the extent practicable through secure file transfer protocol and validation tools available via secure web portal.

BTS serves as the data steward for the FLOW program. Data shared with BTS by FLOW participants is treated confidentially and protected by BTS under the Confidential Information Protection and Statistical Efficiency Act of 2018 (CIPSEA), codified as amended at 44 U.S.C. 3561-3583. BTS collects, processes, and analyzes confidential data from FLOW participants, ensures the exclusive statistical use of that information, and preserves the confidentiality of that information. BTS shares aggregated, deidentified data with FLOW participants via a secure web portal, following BTS disclosure review processes. These aggregated measures are intended to serve as leading indicators of freight congestion and supply chain performance and help to communicate the degree of oversupply or undersupply of logistics assets.

Access to the secure web portal is limited to FLOW participants and not shared publicly, although participants may provide specific authorization to publish FLOW data products through a review process. Current in-progress efforts to apply and include FLOW data in public data products include BTS port performance freight statistics and freight scenario analysis research.

Data Confidentiality Provisions: Data collected under the FLOW initiative may contain confidential business information. The confidentiality of these data will be protected under CIPSEA. In accordance with CIPSEA, FLOW data will be used exclusively for statistical purposes and will not be disclosed in identifiable form except with the informed consent of the respondent.

Annual Burden Discussion: It is estimated that a FLOW participant will spend a maximum of six hours establishing the initial system connection and developing and testing the data file. Once established, participants may spend up to two hours annually on routine maintenance activities, including system connection maintenance or any necessary amendments to data files. Most participants transmit files on a scheduled, automated basis through secure file transfer protocol; no additional burden is estimated for these scheduled jobs. Participants may also submit files via upload to secure web portal on a weekly basis; up to 15 minutes per week or approximately 13 hours annually are estimated for these uploads. This additional manual burden is included in the total estimate, for a total annual burden estimate of 21 hours per participant or 2,940 hours total for up to 140 FLOW participants.

Public Comments Invited: You are asked to comment on any aspect of this information collection, including: (1) whether the proposed collection is necessary for the performance of BTS's functions; (2) the accuracy of the estimated burden; (3) ways for BTS to enhance the quality, usefulness, and clarity of the collected information; and (4) ways that the burden could be minimized without reducing the quality of the collected information. Comments received after the comment closing date will be included in the docket and will be considered to the extent practicable.

Allison Fischman,
Director, Office of Safety Data and Analysis, Bureau of Transportation Statistics, U.S. Department of Transportation.

[FR Doc. 2026-03996 Filed 2-27-26; 8:45 am]

BILLING CODE 4910-9X-P